POSTAL RATE COMMISSION

Briefing on Commission Functions and Procedures

AGENCY: Postal Rate Commission.

ACTION: Notice of briefing.

SUMMARY: On February 15, 2005, senior staff will describe the current functions and procedures of the Postal Rate Commission to executives of business mail users that utilize all classes of mail. Members of the Commission will attend and participate in discussion following the presentation.

DATES: February 15, 2005.

ADDRESSES: Postal Rate Commission, 1333 H Street, NW., Suite 300, Washington, DC 20268-0001.

FOR FURTHER INFORMATION CONTACT: Stephen L. Sharfman, General Counsel, 202-789-6818.

Dated: February 9, 2005.
Steven W. Williams,
Secretary.

[FR Doc. 05-2809 Filed 2-11-05; 8:45 am]

BILLING CODE 7710-FW-M